DEPARTMENT OF COMMERCE

International Trade Administration

[A-583-854]

Certain Steel Nails From Taiwan: Preliminary Results of Antidumping Duty Administrative Review, Preliminary Determination of No Shipments, and Partial Rescission of Review; 2020-2021

AGENCY: Enforcement and Compliance, International Trade Administration, U.S. Department of Commerce.

SUMMARY: The U.S. Department of Commerce (Commerce) preliminarily determines that certain steel nails from Taiwan were sold in the United States at less than normal value during the period of review (POR), July 1, 2020, through June 30, 2021. Interested parties are invited to comment on these preliminary results.

DATES: Applicable June 13, 2022.

FOR FURTHER INFORMATION CONTACT: Irene Gorelik, AD/CVD Operations, Office VIII, Enforcement and Compliance, International Trade Administration, U.S. Department of Commerce, 1401 Constitution Avenue NW, Washington, DC 20230; telephone: (202) 482-6905.

SUPPLEMENTARY INFORMATION:

Background

On July 13, 2015, the Department of Commerce (Commerce) published the antidumping duty (AD) order on certain steel nails (nails) from Taiwan.¹ On July 1, 2021, Commerce published in the Federal Register a notice of opportunity to request an administrative review of the Order.² On July 30, 2021, Encore Green Co., Ltd. and Liang Kai Co. requested an administrative review.³ On July 30, 2021, Commerce received a request for an administrative review of 128 producers and/or exporters of subject merchandise, filed on behalf of Mid Continent Steel & Wire, Inc. (the petitioner).⁴ On August 2, 2021, Liang Chyuan Industrial Co., Ltd.⁵ requested an administrative review of itself.⁶ On September 7, 2021, we initiated an administrative review of certain steel nails from Taiwan covering all companies for which a review was requested in accordance with section 751(a) of the Tariff Act of 1930, as amended (the Act) and 19 CFR 351.221(c)(1)(i).⁷

¹ See Certain Steel Nails from the Republic of Korea, Malaysia, the Sultanate of Oman, Taiwan, and the Socialist Republic of Vietnam: Antidumping Duty Orders, 80 FR 39994 (July 13, 2015) (Order).

² See Antidumping or Countervailing Duty Order, Finding, or Suspended Investigation; Opportunity To Request Administrative Review, 86 FR 35065 (July 1, 2021).

³ See Harris Bricken's Letter, “Administrative Review Request,” dated July 30, 2021.

⁴ See Petitioner's Letter, “Request for Administrative Reviews,” dated July 30, 2021.

⁵ Commerce determined that Liang Chyuan Industrial Co., Ltd. and Integral Building Products Inc. comprise a single entity in Certain Steel Nails from Taiwan: Preliminary Results of Antidumping Duty Administrative Review; 2017-2018, 84 FR 48116 (September 12, 2019), unchanged in Certain Steel Nails from Taiwan: Final Results of Antidumping Duty Administrative Review and Determination of No Shipments; 2017-2018, 85 FR 14635 (March 13, 2020). Because there is nothing on the record calling into question our prior finding, we continue to treat these companies as part of a single entity for this administrative review.

⁶ See Appleton Luff's Letter, “Administrative Review Request,” dated August 2, 2021. Commerce's practice dictates that, where a deadline falls on a weekend or Federal holiday, the appropriate deadline is the next business day. See Notice of Clarification: Application of “Next Business Day” Rule for Administrative Determination Deadlines Pursuant to the Tariff Act of 1930, As Amended, 70 FR 24533 (May 10, 2005). Therefore, this request for review was timely.

⁷ See Initiation of Antidumping and Countervailing Duty Administrative Reviews, 85 FR 50034 (September 7, 2021) (Initiation Notice).

On September 16, 2021, the petitioner filed a timely letter withdrawing its request for review of 61 of the 128 companies originally requested for review.⁸ On September 16, 2021, Encore Green Co., Ltd. and Liang Kai Co. also withdrew their requests for review.⁹ Further, while the petitioner withdrew its review request for Liang Chyuan Industrial Co., Ltd. and Integral Building Products, Inc., Liang Chyuan Industrial Co., Ltd. did not withdraw its request for review of itself.¹⁰ Therefore, we are not rescinding the review of: (1) the single entity comprising Liang Chyuan Industrial Co., Ltd. and Integral Building Products Inc.; or (2) Liang Kai Co., because active review requests remain on the record for them. We are rescinding the review with respect to the 59 companies ¹¹ for which all requests for review were timely withdrawn by interested parties.

⁸ See Petitioner's Letter, “Withdrawal of Review Request,” dated September 16, 2021.

⁹ See Harris Bricken's Letter, “Withdrawal of Request for Administrative Review,” dated September 16, 2021. However, while Liang Kai Co. withdrew its request for review, the petitioner did not withdraw its review request for this company.

¹⁰ Despite the petitioner's withdrawal of the sole review request with respect to Integral Building Products Inc., we do not intend to rescind the review with respect to this company because it is part of a single entity with Liang Chyuan Industrial Co., Ltd., for which a review request remains.

¹¹ See Appendix III.

On December 8, 2021, we selected King Chuang Wen Trading Co., Ltd. (King Chuang) and the single entity comprising Liang Chyuan Industrial Co., Ltd. and Integral Building Products Inc. (collectively, Liang Chyuan) as mandatory respondents in this administrative review.¹² King Chuang and Liang Chyuan did not respond to the AD questionnaire. On January 12, 2022, we selected Liang Kai Co., as an additional mandatory respondent.¹³ Liang Kai Co. did not respond to the AD questionnaire.

¹² See Memorandum, “Respondent Selection,” dated December 8, 2021.

¹³ See Memorandum, “Selection of Additional Mandatory Respondent,” dated January 12, 2022.

For a complete description of the events that followed the initiation of this administrative review, see the Preliminary Decision Memorandum.¹⁴ The Preliminary Decision Memorandum is a public document and is on file electronically via the Enforcement and Compliance's Antidumping and Countervailing Duty Centralized Electronic Service System (ACCESS). ACCESS is available to registered users at http://access.trade.gov. In addition, a complete version of the Preliminary Decision Memorandum can be accessed directly on the internet at https://access.trade.gov/public/FRNoticesListLayout.aspx.

¹⁴ See Memorandum, “Decision Memorandum for Preliminary Results of Antidumping Duty Administrative Review: Certain Steel Nails from Taiwan; 2020-2021,” dated concurrently with, and hereby adopted by, this notice (Preliminary Decision Memorandum).

Scope of the Order

The merchandise covered by this Order is certain steel nails from Taiwan. The certain steel nails subject to the Order are currently classifiable under Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this Order also may be classified under HTSUS subheadings 7907.00.60.00, 8206.00.00.00 or other HTSUS subheadings. Although the HTSUS numbers are provided for convenience and for customs purposes, the written product description, available in the Preliminary Decision Memorandum, remains dispositive.

Partial Rescission of Review

Pursuant to 19 CFR 351.213(d)(1), Commerce will rescind an administrative review, in whole or in part, if the party that requested the review withdraws its request within 90 days of the publication of the notice of initiation of the requested review. Because all requests for administrative review of the 59 companies listed in Appendix III were withdrawn by interested parties within 90 days of the date of publication of the Initiation Notice, and no other interested party requested a review of them, Commerce is rescinding this review with respect to these companies, in accordance with 19 CFR 351.213(d)(1).

The administrative review remains active with respect to 69 companies (including the two companies comprising the single Liang Chyuan entity, but listed separately in the Initiation Notice).

Methodology

Commerce is conducting this review in accordance with section 751(a)(1)(B) of the Act. For a full description of the methodology underlying the preliminary results, see the Preliminary Decision Memorandum.

Preliminary Determination of No Shipments

Commerce received no-shipment certifications from four companies: Astrotech Steels Private Limited, Geekay Wires Limited, Region Industries Co., Ltd., and Region System Sdn. Bhd. To confirm these companies' no-shipment claims, Commerce issued a no-shipment inquiry to U.S. Customs and Border Protection (CBP) and received no contradictory information.¹⁵ Therefore, we preliminarily determine that these four companies did not have any shipments of subject merchandise during the POR. Consistent with Commerce's practice, we will not rescind the review with respect to these companies, but, rather, will complete the review and issue instructions based on the final results.

¹⁵ See Memorandum, “No Shipment Inquiry,” dated January 21, 2022, where CBP confirmed that “CBP's Base Metals ran an ACE query . . . and found no entries by: Wiresmith, Astrotech Steels Private Limited Company; Geekay Wires Limited; Region System, or Region System Sdn. Bhd.; Region Industries, or Region Industries Co., Ltd. . . .”

Additionally, Wiresmith Industrial Co., Ltd. (Wiresmith) and Create Trading Co., Ltd. (Create Trading) are resellers of subject merchandise that reported that they had no reviewable sales or shipments during the POR because their respective unaffiliated producers had knowledge of the final U.S. destination of the subject merchandise that they produced and sold to the resellers. The resellers provided sales documentation, such as invoices and packing lists from their unaffiliated suppliers, as well as accounting records as evidence in support of their claims.¹⁶ Commerce also issued supplemental questionnaires to both resellers requesting additional information regarding their respective statements of no sales or shipments.

¹⁶ See Create Trading Letter, “Statement of No Sales to the United States,” dated October 7, 2021; see also Wiresmith Letter, “Statement of No Sales to the United States,” dated October 7, 2021 (Wiresmith SNS).

Based on the information provided by both resellers, we preliminarily determine that Wiresmith and Create Trading were not the first parties in the transaction chain to have knowledge that the subject merchandise was destined for the United States, and, thus, Wiresmith and Create Trading are not considered the exporters of subject merchandise during the POR for purposes of this review. Specifically, the record demonstrates that Wiresmith's and Create Trading's respective unaffiliated suppliers had knowledge that the steel nails they produced and sold to the resellers were destined for the United States. Thus, we preliminarily determine that Wiresmith and Create Trading had no shipments of subject merchandise during the POR.

Commerce finds that, based on the clarification in the 2003 Assessment of Antidumping Duties ¹⁷ notice regarding the reseller policy, we will not rescind the review in these circumstances but, rather, complete the review with respect to the resellers and issue appropriate instructions to CBP after the completion of the review.¹⁸ Specifically, we preliminarily find it appropriate in this case to instruct CBP at the completion of the review to liquidate any existing entries of subject merchandise produced and exported by the resellers' respective unaffiliated suppliers at the rate applicable to the unaffiliated producers, which, as discussed below, in this case is the all-others rate.¹⁹

¹⁷ See Antidumping and Countervailing Duty Proceedings: Assessment of Antidumping Duties, 68 FR 23954 (May 6, 2003) (Assessment of Antidumping Duties).

¹⁸ Id.

¹⁹ See, e.g., Certain Frozen Warmwater Shrimp from India: Partial Rescission of Antidumping Duty Administrative Review, 73 FR 77610, 77612 (December 19, 2008) (Shrimp from India); Certain Pasta from Turkey: Notice of Preliminary Results of Antidumping Duty Administrative Review, 76 FR 23974, 23977 (April 29, 2011), unchanged in Pasta from Turkey: Notice of Final Results of the 14th Antidumping Duty Administrative Review, 76 FR 68399 (November 4, 2011) (Pasta from Turkey).

Facts Available

Pursuant to section 776(a) of the Act, Commerce is preliminarily relying upon facts otherwise available to assign estimated dumping margins to King Chuang, Liang Chyuan, and Liang Kai Co. because all three respondents were unresponsive to our requests for information, thereby withholding necessary information that was requested by Commerce, and significantly impeding the conduct of the review. Further, Commerce preliminarily determines that King Chuan, Liang Chyuan, and Liang Kai Co. failed to cooperate by not acting to the best of their ability to comply with requests for information and, thus, Commerce is applying an adverse inference in selecting among the facts available, in accordance with section 776(b) of the Act. For a full description of the methodology underlying our conclusions regarding the application of adverse facts available, see the Preliminary Decision Memorandum.

Rate for Non-Selected Companies

The statute and Commerce's regulations do not directly address the establishment of a rate to be applied to companies not selected for individual examination when Commerce limits its examination in an administrative review pursuant to section 777A(c)(2) of the Act. Commerce's practice in calculating a rate for non-examined companies in cases involving limited selection based on exporters or producers accounting for the largest volumes of trade has been to look to section 735(c)(5) of the Act for guidance, which provides instructions for calculating the all-others rate in an investigation. In accordance with the U.S. Court of Appeals for the Federal Circuit's decision in Albemarle,²⁰ we are relying on the “expected method” pursuant to section 735(c)(5)(B) of the Act and the SAA,²¹ and, thus, are applying a review-specific rate based on the individual rates preliminarily applied to King Chuang, Liang Chyuan, and Liang Kai Co. in this administrative review (i.e., 78.17 percent) to the companies not selected for individual examination. For a detailed discussion, see the Preliminary Decision Memorandum.

²⁰ See Albemarle Corp. v. United States, 821 F.3d 1345 (Fed. Cir. 2016) (Albemarle).

²¹ See Statement of Administrative Action Accompanying the Uruguay Round Agreements Act, H.R. Rep. No. 103-316, Vol. 1 (1994) (SAA) at 873 (when “the dumping margins for all of the exporters and producers that are individually investigated are determined entirely on the basis of the facts available or are zero or de minimis . . . {t}he expected method in such cases will be to weight-average the zero and the de minimis margins and margins determined pursuant to the facts available.”).

Preliminary Results of Review

We preliminarily determine that, for the period July 1, 2020, through June 30, 2021, the following estimated dumping margins exist:

Exporter/producer | Dumping margin (percent)
King Chuang Wen Trading Co., Ltd. | 78.17
Liang Chyuan Industrial Co., Ltd./Integral Building Products Inc. | 78.17
Liang Kai Co. | 78.17

Exporter/producer | Dumping margin (percent)
Review-Specific Average Rate Applicable to Companies Under Review Not Selected for Individual Examination
See Appendix II for the 59 companies under review subject to the review-specific rate | 78.17

Disclosure and Public Comment

Normally, Commerce discloses the calculations performed in connection with preliminary results to interested parties within five days after the date of publication of this notice. Because Commerce preliminarily applied a rate based on total AFA to each of the mandatory respondents in this review, in accordance with section 776 of the Act, there are no calculations to disclose.

Interested parties may submit case briefs no later than 30 days after the date of publication of this notice.²² Rebuttal briefs, the content of which is limited to the issues raised in the case briefs, must be filed within seven days from the deadline date for the submission of case briefs.²³ Parties who submit case or rebuttal briefs in this proceeding are requested to submit with each argument: (1) a statement of the issue; (2) a brief summary of the argument; and (3) a table of authorities.²⁴ Case and rebuttal briefs should be filed electronically via ACCESS.

²² See 19 CFR 351.309(c)(1)(ii).

²³ See 19 CFR 351.309(d)(1) and (2); see also Temporary Rule Modifying AD/CVD Service Requirements Due to COVID-19, 85 FR 17006 (March 26, 2020).

²⁴ See 19 CFR 351.309(c)(2) and (d)(2); see also Temporary Rule Modifying AD/CVD Service Requirements Due to COVID19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by ACCESS by 5 p.m. Eastern Time within 30 days after the date of publication of this notice.²⁵ Hearing requests should contain: (1) the party's name, address, and telephone number; (2) the number of participants; and (3) a list of issues to be discussed. Issues raised in the hearing will be limited to issues raised in the briefs. If a request for a hearing is made, Commerce intends to hold the hearing at a time and date to be determined.²⁶

²⁵ See 19 CFR 351.310(c).

²⁶ Id.

Commerce intends to issue the final results of this administrative review, including the results of its analysis raised in any written briefs, no later than 120 days after the publication of these preliminary results in the Federal Register, unless otherwise extended.²⁷

²⁷ See section 751(a)(3)(A) of the Act; see also 19 CFR 351.213(h).

Verification

As provided in section 782(i)(3) of the Act, Commerce verified the information relied upon in making its preliminary results with respect to Create Trading. Normally, Commerce verifies information using standard procedures, including an on-site examination of original accounting, financial, and sales documentation. However, due to travel restrictions in response to the global COVID-19 pandemic, Commerce was unable to conduct on-site verification in this review. Accordingly, we chose to verify the information relied upon in making the preliminary results through alternative means in lieu of an on-site verification. Commerce issued a questionnaire in lieu of on-site verification to Create Trading.²⁸

²⁸ See Commerce's Letter, “In Lieu of On-Site Verification Questionnaire,” dated May 2, 2022.

Assessment Rates

Upon completion of the administrative review, Commerce shall determine, and CBP shall assess, antidumping duties on all appropriate entries covered by this review. For the companies for which we have rescinded this review, Commerce intends to instruct CBP to assess antidumping duties on all appropriate entries at a rate equal to the cash deposit rate of estimated antidumping duties required at the time of entry, or withdrawal from warehouse, for consumption, during the POR, in accordance with 19 CFR 351.212(c)(1)(i). Commerce intends to issue assessment instructions to CBP for the rescinded companies no earlier than 35 days after the date of publication of the preliminary results of this administrative review in the Federal Register.

If the preliminary results are unchanged for the final results, we will instruct CBP to apply an ad valorem assessment rate of 78.17 percent to all entries of subject merchandise during the POR which were produced and/or exported by King Chuang, Liang Chyuan, Liang Kai Co., and the companies which were not selected for individual examination.

With respect to the four companies that certified they had no shipments, if we continue to find that they had no shipments of subject merchandise in the final results, we will instruct CBP to liquidate any existing entries of subject merchandise produced by the four companies, but exported by other parties, at the rate for the intermediate reseller, if available, or at the all-others rate.

With respect to the two resellers, Wiresmith and Create Trading, as discussed above, we preliminarily determine that the resellers were not the first parties in the transaction chain to have knowledge that the subject merchandise was destined for the United States, and thus the resellers are not considered the exporters of subject merchandise during the POR for purposes of this review. Consistent with the 2003 Assessment of Antidumping Duties notice and reseller policy, we find it appropriate in this case to instruct CBP to liquidate any existing entries of merchandise produced by the resellers' unaffiliated producers and exported by the resellers at the rate applicable to the producer(s).²⁹ Because none of the producer(s) have their own rates, we will instruct CBP to liquidate entries at the all-others rate from the investigation, as revised, of 2.16 percent,³⁰ in accordance with the reseller policy.

²⁹ See, e.g., Shrimp from India; and Pasta from Turkey.

³⁰ The all-others rate from the underlying investigation was revised in Certain Steel Nails from Taiwan: Notice of Court Decision Not in Harmony with Final Determination in Less than Fair Value Investigation and Notice of Amended Final Determination, 82 FR 55090, 55091 (November 20, 2017).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date of the final results of this administrative review, as provided by section 751(a)(2)(C) of the Act: (1) the cash deposit rate for King Chuang, Liang Chyuan, and Liang Kai Co and the companies listed in Appendix II will be equal to the dumping margin established in the final results of this administrative review; (2) for previously reviewed or investigated companies not listed above, the cash deposit rate will continue to be the company-specific rate published for the most recently completed segment of this proceeding in which they were reviewed; (3) if the exporter is not a firm covered in this review, a prior review, or in the investigation, but the producer is, then the cash deposit rate will be the rate established for the most recently completed segment of this proceeding for the producer of the merchandise; and (4) the cash deposit rate for all other manufacturers or exporters will continue to be 2.16 percent, the all-others rate. These cash deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing this notice in accordance with sections 751(a)(1) and 777(i)(1) of the Act, and sections 19 CFR 351.213(h)(1) and 351.221(b)(4).

Dated: June 7, 2022.
Lisa W. Wang,
Assistant Secretary for Enforcement and Compliance.

Appendix I—List of Topics Discussed in the Preliminary Decision Memorandum

I. Summary

II. Background

III. Scope of the Order

IV. Discussion of the Methodology

V. Recommendation

Appendix II—List of Companies Under Review Not Selected for Individual Examination

1. Acu-Transport Co., Ltd.

2. Allwin Architectural Hardware Inc.

3. Alsons Manufacturing India LLP

4. An Chen Fa Machinery Co., Ltd.

5. Bollore Logistics India Private Ltd.

6. Bon Voyage Logistics Inc.

7. Boss Precision Works Co., Ltd.

8. C.H. Robinson Freight Services Ltd.

9. C.H.Robinson World Wide India Pvt. Ltd.

10. Casia Global Logistics Co., Ltd.

11. Chief Ling Entreprise Co., Ltd

12. China Intl. Freight Co., Ltd.

13. China Sea Forwarders Co., Ltd.

14. Crane Worldwide Logistics LLC

15. De Well Container Shipping Inc.

16. DHL Global Forwarding Sg. Pte. Ltd.

17. Diversified Freight System Corporation

18. Eusu Logistics Co., Ltd.

19. Evergreen Logistics Corp.

20. Everise Global Logistics Co., Ltd.

21. Grandlink Logistics Co., Ltd.

22. Honour Lane Logistics Company Ltd.

23. Honour Lane Shipping Ltd.

24. Houseware Taiwan Industries Ltd.

25. Inmax Industries Sdn. Bhd.

26. K.E. & Kingstone Co., Ltd.

27. Kay Guay Entreprises Co., Ltd.

28. Kerry Indev Logistics Private Limited

29. King Compass Logistics Limited

30. King Freight International Corp.

31. Lien Bin Industries Co., Ltd.

32. New Marine Consolidator Co., Ltd.

33. NMC Logistics International Co., Ltd.

34. Oceanlink/Topair International Co.

35. OEC Freight Worldwide Co., Ltd.

36. Orient Containers Sdn., Bhd.

37. Orient Express Container Co., Ltd.

38. Orient Star International Logistics Co., Ltd.

39. Orient Star Transport International Ltd.

40. Oriental Vanguard Logistics Co., Ltd.

41. Pacific Concord International Ltd.

42. Pacific Star Express Corp.

43. Panda Logistics Co., Ltd.

44. Ray Fu Entreprise Co., Ltd.

45. SAR Transport Systems Pvt. Ltd.

46. Schenker (H.K.) Ltd.

47. Storeit Services LLP.

48. Success Progress International Tran

49. T.H.I. Logistics Co., Ltd.

50. T.V.L. Container Line Limited

51. The Ultimate Freight Management (Taiwan) Ltd.

52. Topocean Consolidation Service (Taiwan) Ltd.

53. Trans Luck Global Logistics Co., Ltd.

54. Trans Wagon International Co., Ltd.

55. Transwell Logistics Co., Ltd.

56. Transworld Transportation Co., Ltd.

57. UPS Supply Chain Solutions (Taiwan) Co., Ltd.

58. Valuemax Products Co., Ltd.

59. Worldwide Logistics Co., Ltd.

Appendix III—Companies Rescinded From Review

1. Aplus Pneumatic Corp.

2. Bonuts Hardware Logistics Co., Ltd.

3. Cheng CH International Co., Ltd.

4. Chia Pao Metal Co., Ltd.

5. China Staple Enterprise Corporation

6. Chite Enterprises Co., Ltd.

7. Crown Run Industrial Corp.

8. De Fasteners Inc.

9. Easylink Industrial Co., Ltd.

10. Encore Green Co., Ltd.

11. Faithful Engineering Products Co., Ltd.

12. General Merchandise Consolidators, Inc.

13. Hor Liang Industrial Corp.

14. Hoyi Plus Co., Ltd.

15. Interactive Corp.

16. Jade Shuttle Enerprise Co., Ltd.

17. Jau Yeou Industry Co., Ltd.

18. JC Grand Corporation

19. Jen Ju Enterprise Co., Ltd.

20. Jet Crown International Co., Ltd.

21. Jiajue Industrial Co., Ltd.

22. Jinsco International Corp.

23. Ko's Nail Inc.

24. Korea Wire Co., Ltd.

25. Linkwell Industry Co., Ltd.

26. Locksure Inc.

27. Lu Kang Hand Tools Industrial Co., Ltd.

28. Master United Corp.

29. Maytrans International Corp.

30. Ming Cheng Hardware Co., Ltd.

31. Nailermate Enterprise Corporation

32. Nailtech Co., Ltd.

33. Newrex Screw Corporation

34. Panther T&H Industry Co.

35. Patek Tool Co., Ltd.

36. Point Edge Corp.

37. President Industrial Inc.

38. Pro Team Coil Nail Enterprise Incor.³¹

³¹ Commerce determined that Pro-Team and PT Enterprise comprise a single entity in Certain Steel Nails from Taiwan: Preliminary Results of Antidumping Duty Administrative Review and Partial Rescission of Administrative Review; 2015-2016, 82 FR 36744 (August 7, 2017), unchanged in Certain Steel Nails from Taiwan: Final Results of Antidumping Duty Administrative Review and Partial Rescission of Administrative Review; 2015-2016, 83 FR 6163 (February 13, 2018). However, Commerce inadvertently listed them separately in the Initiation Notice, rather than as a combined single entity on a single line.

39. PT Enterprise, Inc.³²

³² As noted above, PT Enterprise Inc. and Pro Team Coil Nail Enterprise Incor. comprise a single entity. Commerce inadvertently listed them separately in the Initiation Notice, rather than as a combined single entity on a single line.

40. Romp Coil Nail Industries Inc.

41. Shinn Chuen Corp.

42. Six2 Fastener Imports Inc.

43. Taiwan Shan Yin International Co., Ltd.

44. Taiwan Wakisangyo Co., Ltd.

45. Techart Mechanical Corporation

46. Test-Rite Int'l Co., Ltd.

47. Theps Co., Ltd.

48. Trans-Top Enterprise Co., Ltd.

49. Trim International Inc.

50. U-Can-Do Hardware Corp.

51. UJL Industries Co., Ltd.

52. Unicatch Industrial Co., Ltd.

53. Vim International Entreprise Co., Ltd.

54. Wattson Fastener Group Inc.

55. Wictory Co., Ltd.

56. Yehdyi Enterprise Co., Ltd.

57. Yu Chi Hardware Co., Ltd.

58. Zhishan Xing Entreprise Co., Ltd.

59. Zon Mon Co., Ltd.

[FR Doc. 2022-12711 Filed 6-10-22; 8:45 am]

BILLING CODE 3510-DS-P